SMALL BUSINESS ADMINISTRATION

[Disaster Declaration #20974; CALIFORNIA Disaster Number CA-20032 Declaration of Economic Injury]

Administrative Declaration of an Economic Injury Disaster for the State of California

AGENCY: U.S. Small Business Administration.

ACTION: Notice.

SUMMARY: This is a notice of an Economic Injury Disaster Loan (EIDL) declaration for the State of California dated February 13, 2025.

Incident: 2024 Coastal Storm and High Surf Event.

DATES: Issued on February 13, 2025.

Incident Period: December 23, 2024 through January 3, 2025.

Economic Injury (EIDL) Loan Application Deadline Date: November 13, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's EIDL declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Santa Cruz.

Contiguous Counties:

California: Monterey, San Benito, San Mateo, Santa Clara.

The Interest Rates are:

| Percent
Business and Small Agricultural Cooperatives without Credit Available Elsewhere | 4.000
Non-Profit Organizations without Credit Available Elsewhere | 3.625

The number assigned to this disaster for economic injury is 209740.

The States which received an EIDL Declaration are California.

(Catalog of Federal Domestic Assistance Number 59008)

Dated: February 13, 2025.
Everett Woodel,
Acting Administrator.

[FR Doc. 2025-02855 Filed 2-19-25; 8:45 am]

BILLING CODE 8026-09-P